DEPARTMENT OF HOMELAND SECURITY

U.S. Customs and Border Protection

Modification and Extension of the Post-Entry Amendment Processing Test

AGENCY: Customs and Border Protection, DHS.

ACTION: General notice.

SUMMARY: This document announces a modification of U.S. Customs and Border Protection's (CBP) Post-Entry Amendment Processing test. The test allows the amendment of entry summaries prior to liquidation. The modification to the test requires the filer of a post-entry amendment to submit an individual amendment letter no later than 20 days prior to the scheduled liquidation date for the subject entry summary. This document also sets forth that CBP is terminating the supplemental information letter policy so that the post-entry amendment procedure will be the only procedure for submitting post summary adjustments on entry summaries prior to liquidation. Except for the modification set forth in this document, the test procedure is the same as that set forth in previously published Federal Register notices. The document also announces that the test is being extended for another year.

DATES: The Post-Entry Amendment Processing test modification set forth in this document is effective on September 20, 2007. The test is extended for a one-year period commencing on August 21, 2007. CBP will discontinue accepting Supplementary Information Letters on September 20, 2007.

ADDRESSES: Written comments regarding this notice, should be addressed to U.S. Customs and Border Protection, Entry and Drawback Management Branch, Office of International Trade, ATTN: Post-Entry Amendment, 1300 Pennsylvania Avenue, NW., Washington, DC 20229.

FOR FURTHER INFORMATION CONTACT: Questions pertaining to any aspect of this notice should be directed to Jennifer Dolan, U.S. Customs and Border Protection, Entry and Drawback Management Branch, Office of International Trade, at (202) 344-2568 or via e-mail at Jennifer.Dolan@dhs.gov.

SUPPLEMENTARY INFORMATION:

Background

The U.S. Customs Service (Customs; now U.S. Customs and Border Protection or CBP) announced and described the Post-Entry Amendment Processing test (the test or PEA test) in a general notice document published in the Federal Register (65 FR 70872) on November 28, 2000. The notice announced that the test would commence no earlier than December 28, 2000, and run approximately one year. The test was extended on three subsequent occasions by publication of notice in the Federal Register as follows: to December 21, 2002 (67 FR 768; January 7, 2002); to December 31, 2003 (68 FR 8329; February 20, 2003); and to December 31, 2004 (69 FR 5860; February 6, 2004).

The PEA test procedure, authorized under section 101.9(a) of the CBP regulations (19 CFR 101.9(a)), allows importers to amend entry summaries (not informal entries) prior to liquidation by filing with CBP either an individual amendment letter upon discovery of certain kinds of errors or a quarterly tracking report covering certain other errors that occurred during the quarter. The November 28, 2000, and the February 6, 2004, Federal Register notices describe in full detail the PEA test procedure, including an explanation of the kinds of errors mentioned above. Also, an explanation of the procedure is available at www.cbp.gov (under the following links: “Import” and “Cargo Summary”).

Modification

Under the PEA test, an individual amendment letter (also known as a single PEA) must be filed by the importer (or its broker) upon discovery of: (1) A revenue related error in an entry summary where the error results in either an overpayment or underpayment of duties, taxes, and/or fees in the amount of $20 or more; (2) any error in an entry summary relating to antidumping or countervailing duties; and (3) any non-revenue related statistical information errors in an entry summary that must be reported to the U.S. Census Bureau. Prior to publication of this document, individual amendment letters were required to be filed promptly after discovery of the error(s) and prior to liquidation of the one or more entry summaries covered in the letter.

Effective upon publication of this document in the Federal Register, an importer or broker filing a single PEA must submit the PEA at least 20 days prior to the scheduled liquidation date of each entry summary covered in the letter. This 20-day period will provide CBP sufficient time to review all entry summaries covered in a single PEA prior to the scheduled liquidation date. Liquidation of single PEAs (i.e., of the entry summaries covered) under the test is a manual function and past performance has shown that more time is needed to process these amendment requests effectively. Single PEAs submitted untimely will be rejected and returned to the filer. In those instances where the single PEAs are submitted timely but the entry summaries are not unset or processed by the scheduled liquidation date and liquidation occurs without benefit of the requested amendment, CBP will treat them as protests under 19 U.S.C. 1514 or, if appropriate in the circumstances, as evidence warranting reliquidation under 19 U.S.C. 1501.

Other than this modification, the test procedure remains as set forth in previously published notices.

Extension

This notice announces a further extension of the PEA test for a period of one year, such period to commence on the date this document is published in the Federal Register.

Discontinuation of the SIL Policy

Finally, as of the effective date of this notice, the PEA test will be the only procedure in place for post summary adjustments prior to liquidation, and the SIL procedure (see Administrative Message 97-0727, August 3, 1997) will be discontinued. CBP will issue an administrative message regarding this change soon after publication of this notice.

Dated: August 15, 2007.
Daniel Baldwin,
Assistant Commissioner, Office of International Trade.

[FR Doc. E7-16415 Filed 8-20-07; 8:45 am]

BILLING CODE 9111-14-P